ENVIRONMENTAL PROTECTION AGENCY

40 CFR Part 63

[EPA-HQ-OAR-2010-0895; FRL-9614-1]

RIN 2060-AQ11

National Emission Standards for Hazardous Air Pollutants: Ferroalloys Production; Extension of Comment Period

AGENCY: Environmental Protection Agency (EPA).

ACTION: Proposed rule; extension of public comment period.

SUMMARY: The EPA is announcing that the period for providing public comments on the November 23, 2011, proposed Rule Titled “National Emission Standards for Hazardous Air Pollutants: Ferroalloys Production” is being extended for 22 days.

DATES: Comments. The public comment period for the proposed rule published November 23, 2011 (76 FR 72508), is being extended for 22 days to January 31, 2012, in order to provide the public additional time to submit comments and supporting information.

ADDRESSES: Comments. Written comments on the proposed rule may be submitted to EPA electronically, by mail, by facsimile or through hand delivery/courier. Please refer to the proposal for the addresses and detailed instructions.

Docket. Publicly available documents relevant to this action are available for public inspection either electronically at http://www.regulations.gov or in hard copy at the EPA Docket Center, Room 3334, 1301 Constitution Avenue NW., Washington, DC The Public Reading Room is open from 8:30 a.m. to 4:30 p.m., Monday through Friday, excluding legal holidays. A reasonable fee may be charged for copying.

World Wide Web. The EPA Web site for this rulemaking is at: http://www.epa.gov/ttn/atw/ferroa/ferropg.html.

FOR FURTHER INFORMATION CONTACT: Mr. Conrad Chin, Metals and Inorganic Chemicals Group (D243-02), Sector Policies and Programs Division, Office of Air Quality Planning and Standards, U.S. Environmental Protection Agency, Research Triangle Park, North Carolina 27711; Telephone number: (919) 541-1512; Fax number (919) 541-3207; Email address: chin.conrad@epa.gov.

SUPPLEMENTARY INFORMATION:

Comment Period

Due to requests received from industry to extend the public comment period, the EPA is extending the public comment period for an additional 22 days. Therefore, the public comment period will end on January 31, 2012, rather than January 9, 2012.

How can I get copies of this document and other related information?

The EPA has established the official public docket No. EPA-HQ-OAR-2010-0895. The EPA has also developed Web sites for the proposed rulemaking at the addresses given above.

Dated: December 22, 2011.
Gina McCarthy,
Assistant Administrator, Office of Air and Radiation.

[FR Doc. 2011-33460 Filed 12-28-11; 8:45 am]

BILLING CODE 6560-50-P